SMALL BUSINESS ADMINISTRATION

13 CFR Part 121

Small Business Size Standards; Arrangement of Transportation of Freight and Cargo

AGENCY: Small Business Administration.

ACTION: Final rule; clarification.

SUMMARY: This document clarifies SBA's final rule revising the small business size standard for Standard Industrial Classification (SIC) Code 4731, Arrangement of Transportation of Freight and Cargo. On May 15, 2000, SBA established a new table of size standards based on the North American Industry Classification System (NAICS) which replaces the SIC code table on October 1, 2000. Because SBA issued the final rule concerning SIC 4731 after adopting the new NAICS table of size standards, this action updates the NAICS size standards table to reflect the changes for the Freight Transportation Arrangement industry. This action also inserts into the NAICS table a Subsector for Mining Support Activities which was inadvertently excluded from the May 15, 2000 publication.

DATES: This rule is effective on October 1, 2000.

FOR FURTHER INFORMATION CONTACT: Diane Heal, Office of Size Standards, (202) 205-6618.

SUPPLEMENTARY INFORMATION:

Freight Transportation Arrangements

On August 9, 2000, SBA issued a final rule in the Federal Register, (65 FR 48601) that revised the small business size standard for SIC Code 4731, Arrangement of Transportation of Freight and Cargo. SBA revised the standard from $18.5 million to $5.0 million in average annual receipts effective September 8, 2000. However, SBA retained the $18.5 million size standard for Non-Vessel Owning Common Carriers and Household Goods Forwarders. SBA, in that same rule, also changed how it calculates the average annuals receipts of freight forwarders and custom brokers for purposes of determining eligibility for Federal small business programs.

In that final rule, SBA referred to the effect that changing the size standard for SIC 4731 would have on the NAICS codes. The industries covered under SIC Code 4731 relate to industries covered under NAICS Code 488510 (Freight Transportation Arrangement) and NAICS Code 541614 (Process, Physical Distribution, and Logistics Consulting Services). SBA detailed the change at 65 FR 48603, “Reclassification of Activities Under the North American Industry Classification System.” The table below summarizes how SIC 4731 corresponds to the NAICS.

SIC 4731 | NAICS description | NAICS code | Size standard
Arrangement of Transportation of Freight and Cargo (Except Freight Rate Auditors and (Tariff Consultants) | Freight Arrangement Transportation | 488510 | $5.0 million* Except: Non-Vessel Owning Common Carriers and Household Goods Forwarders...................$18.5 million
Freight Rate Auditors and Tariff Consultants | Process, Physical Distribution, and Logistics Consulting | 541614 | $5.0 million
*As measured by total revenues, but excluding funds received in trust for an unaffiliated third party.

Support Activities for Mining

When SBA published the NAICS table in the May 15, 2000, Federal Register, Subsector 213, Support Activities for Mining, was inadvertently left out of the published table. SBA is now correcting this oversight by adding the Subsector to the NAICS table.

List of Subjects in 13 CFR Part 121

Administrative practice and procedure, Government procurement, Government property, Grant programs—business, Loan programs—business, Report and record keeping requirement, Small business.

For reasons stated in the preamble, SBA is amending 13 CFR part 121 as follows:

PART 121—SMALL BUSINESS SIZE REGULATIONS

1. The authority citation for part 121 continues to read as follows:

Authority: 15 U.S.C. 632(a), 634(b)(6), 637(a), 644(c), and 662(5); and Sec. 304, Pub. L. 103-403,108 Stat. 4175, 4188.

2. In § 121.201, amend the table “Small Business Size Standards by NAICS Industry” as follows:

a. Under the heading Sector 21—Mining, a new heading is added reading “Subsector 213—Support Activities for Mining” below the entry for 212399, All Other Nonmetallic Mineral Mining and above the entry for 213111, Drilling Oil and Gas Wells;

b. Under the heading Sectors 48-49—Transportation, Subsector 488—Support Activities for Transportation, revise the entry for 488510.

The revisions read as follows:

§ 121.201 What size standards has SBA identified by North American Industry Classification System codes?

* * * * *

Size Standard by NAICS Industry
NAICS codes | Description (N.E.C. = Not Elsewhere Classified) | Size standards in number of employees or million of dollars
* * * * * * *
Sector 21—Mining
* * * * * * *
212399 | All Other Nonmetallic Mineral Mining | .............500
Subsector 213—Support Activities for Mining
| * * * * * * *
Sector 48-49—Transportation
| * * * * * * *
Subsector 488—Support Activities for Transportation
| * * * * * * *
488510 | Freight Transportation Arrangement | ....................¹⁰ $5.0
EXCEPT | Non-Vessel Owning Common Carriers and Household Goods Forwarders | ......................$18.5
* * * * * * *

c. Revise footnote 10 to read as follows:

Footnotes:

* * * * *

10. NAICS codes 488510 (part), 531210, 541810, 561510 and 561920—As measured by total revenues, but excluding funds received in trust for an unaffiliated third party, such as bookings or sales subject to commissions. The commissions received are included as revenue.

* * * * *

Dated: October 3, 2000.
Gary Jackson,
Assistant Administrator for Size Standards.

[FR Doc. 00-25991 Filed 10-10-00; 8:45 am]

BILLING CODE 8025-01-U